DEPARTMENT OF DEFENSE

Office of the Secretary

Open Meeting on the Department of Defense Directive 1344.7, “Personal Commercial Solicitation on DoD Installations”

AGENCY: Office of the Under Secretary of Defense for Personnel and Readiness.

ACTION: Notice; open meeting on the Department of Defense Directive 1344.7, “Personal Commercial Solicitation on DoD Installations.”

SUMMARY: The Office of the Under Secretary of Defense for Personnel and Readiness published a document in the Federal Register of April 19, 2005, concerning an open meeting on the Administrative Reissuance of Department of Defense Directive 1344.7, “Personal Commercial Solicitation on DoD Installations,” dated February 13, 1986. The document requires additional comments in the SUMMARY and SUPPLEMENTARY INFORMATION sections.

FOR FURTHER INFORMATION CONTACT: Colonel Michael A. Pachuta or Mr. James M. Ellis at (703) 602-4994 or (703) 602-5009 respectively, or main (703) 602-5001.

Correction

In the Federal Register of April 19, 2005, in FR Doc. 05-7937, on page 20358, in the second column, correct the SUMMARY caption to read:

SUMMARY: The Office of the Under Secretary of Defense for Personnel and Readiness is announcing the opportunity to provide comment on the Administrative Reissuance of Department of Defense Directive 1344.7, “Personal Commercial Solicitation on DoD Installations,” dated February 13, 1986. The Department will consider comments received prior to final publication.

In the Federal Register of April 19, 2005, in FR Doc. 05-7937, on page 20358, in the second column, correct the SUPPLEMENTARY INFORMATION caption to read:

SUPPLEMENTARY INFORMATION: Written comments must be received by June 20, 2005 to be considered. All written comments should include full name, address and telephone number of the sender or a knowledgeable point of contact. If possible, please send an electronic version of the comments either on a 3½ inch DOS format floppy disk, or by e-mail to the addresses listed below, in Adobe Acrobat Portable Document Format (PDF) or Microsoft Word. Because of staffing and resource limitations we cannot accept comments by facsimile, and all comments and content are to be limited to 8.5″ wide by 11″ high vertical page orientation. Additionally, if identical/duplicate comment submissions are submitted both electronically and in paper format, each submission should clearly indicate that it is a duplicate submission. In each comment, please specify the section of the new DoDD 1344.7 to which the comment applies. Written comments can be addressed to either Colonel Michael A. Pachuta (Michael.Pachuta@osd.mil) or Mr. James M. Ellis (James.Ellis@osd.mil), at DUSD (MC&FP), 241 S. 18th St, Crystal Square #4, Suite 302, Arlington, VA 22202.

Dated: April 20, 2005.
Jeannette Owings-Ballard,
OSD Federal Register Liaison Officer, Department of Defense.

[FR Doc. 05-8193 Filed 4-22-05; 8:45 am]

BILLING CODE 5001-06-P